DEPARTMENT OF EDUCATION

34 CFR Chapter VI

[Docket ID ED-2011-OPE-0003]

Negotiated Rulemaking Committees; Public Hearings

AGENCY: Office of Postsecondary Education, Department of Education.

ACTION: Intent to establish negotiated rulemaking committees.

SUMMARY: We announce our intention to establish one or more negotiated rulemaking committees to propose regulations under the Higher Education Act of 1965, as amended (HEA). The committees will include representatives of organizations or groups with interests that are significantly affected by the subject matter of the proposed regulations, as described more fully in the Regulatory Issues section of this document. We also announce three public hearings, at which interested parties may suggest additional issues that should be considered for action by the negotiating committees. In addition, for anyone unable to attend a public hearing, we announce that the Department will accept written comments.

Finally, the Department announces that it will conduct roundtable discussions that focus on the areas of teacher preparation, college completion, and the Department's proposed “First in the World” competition, as more fully described in the Roundtable Discussions section of this document.

DATES: The dates, times, and locations of the public hearings and the roundtable discussions are listed under the SUPPLEMENTARY INFORMATION section of this notice. We must receive written comments suggesting issues that should be considered for action by the negotiating committees on or before May 20, 2011.

ADDRESSES: Submit your comments through the Federal eRulemaking Portal or via postal mail, commercial delivery, or hand delivery. We will not accept comments by fax or by e-mail. Please submit your comments only one time, in order to ensure that we do not receive duplicate copies. In addition, please include the Docket ID at the top of your comments.

• Federal eRulemaking Portal: Go to www.regulations.gov to submit your comments electronically. Information on using Regulations.gov, including instructions for finding a notice, submitting a comment, finding a comment, and signing up for e-mail alerts, is available on the site under “How to Use Regulations.gov” in the Help section.

• Postal Mail, Commercial Delivery, or Hand Delivery. If you mail or deliver your comments about these proposed regulations, address them to Nikki Harris, U.S. Department of Education, 1990 K Street, NW., room 8033, Washington, DC 20006.

Privacy Note: The Department's policy for comments received from members of the public (including those comments submitted by mail, commercial delivery, or hand delivery) is to make these submissions available for public viewing in their entirety on the Federal eRulemaking Portal at www.regulations.gov. Therefore, commenters should be careful to include in their comments only information that they wish to make publicly available on the Internet.

FOR FURTHER INFORMATION CONTACT: For information about the public hearings and roundtable discussions, go to http://www2.ed.gov/policy/highered/reg/hearulemaking/2011/hearings.html or contact: Nikki Harris, U.S. Department of Education, 1990 K Street, NW., room 8033, Washington, DC 20006. Telephone: (202) 219-7050. You may also e-mail your questions about the public hearings to: negreg.2011@ed.gov.

For information about negotiated rulemaking in general, go to The Negotiated Rulemaking Process for Title IV Regulations, Frequently Asked Questions at http://www.ed.gov/policy/highered/reg/hearulemaking/hea08/neg-reg-faq.html or contact: Wendy Macias, U.S. Department of Education, 1990 K Street, NW., room 8017, Washington, DC 20006. Telephone: (202) 502-7526. You may also e-mail your questions about negotiated rulemaking to: Wendy.Macias@ed.gov.

If you use a telecommunications device for the deaf (TDD), call the Federal Relay Service (FRS), toll free, at 1-800-877-8339.

Individuals with disabilities can obtain this document in an accessible format (e.g., braille, large print, audiotape, or computer diskette) by contacting Nikki Harris, U.S. Department of Education, 1990 K Street, NW., room 8033, Washington DC 20006 Telephone: (202) 219-7050.

SUPPLEMENTARY INFORMATION: Section 492 of the HEA requires that, before publishing any proposed regulations to implement programs authorized under title IV of the HEA, the Secretary obtain public involvement in the development of the proposed regulations. After obtaining advice and recommendations from the public, the Secretary conducts negotiated rulemaking to develop the proposed regulations. We announce our intent to develop proposed title IV, HEA regulations by following the negotiated rulemaking procedures in section 492 of the HEA.

We intend to select participants for each negotiated rulemaking committees from nominees of the organizations and groups that represent the interests significantly affected by the proposed regulations. To the extent possible, we will select, from the nominees, individual negotiators who reflect the diversity among program participants, in accordance with section 492(b)(1) of the HEA.

In addition, the Secretary is interested in receiving public comment on the issues summarized in the Roundtable Discussions section of this notice. The Secretary is particularly interested in receiving public comment on the development of proposed regulations under sections 205 and 207 in title II of the HEA on streamlining institutional reporting requirements and improving State identification of low-performing teacher preparation programs.

Regulatory Issues

We intend to convene at least one committee to develop proposed regulations to address title IV loan program issues. These regulations would address issues such as those arising from the changes made to the HEA by the Student Aid Fiscal Responsibility Act (SAFRA), title II of the Health Care and Education Reconciliation Act of 2010 (Pub. L. 111-152), which ended the origination of loans under the Federal Family Education Loan (FFEL) Program as of July 1, 2010. With this statutory change, all new Stafford, PLUS and Consolidation loan originations with a first disbursement on or after July 1, 2010, are made under the William D. Ford Federal Direct Loan (Direct Loan) Program. As a result of the statutory change, the Department intends to streamline the loan program regulations by repealing unnecessary FFEL Program regulations in 34 CFR part 682 and incorporating and modifying necessary requirements within the Direct Loan Program regulations in 34 CFR part 685, as appropriate. In addition, we intend to address, through negotiated rulemaking, other issues in the Federal student loan programs, including possible changes in the regulations governing the income-contingent and income-based repayment plans and the process for making total and permanent disability determinations.

As noted elsewhere in this notice, we are also considering developing proposed regulations to streamline institutional reporting requirements, and proposed regulations regarding better State identification of low-performing teacher preparation programs pursuant to sections 205 and 207 of the HEA through focusing reporting on improved measures of program quality.

After a complete review of the public comments presented at the public hearings and in the written submissions, we will publish a subsequent document (or documents) announcing the specific subject areas for which we intend to establish one or more negotiated rulemaking committees, and a request for nominations for individual negotiators who represent the interests significantly affected by the proposed regulations.

Public Hearings

We will hold three public hearings for interested parties to discuss the rulemaking agenda. The public hearings will be held on:

• May 16, 2011, at Pacific Lutheran University in Tacoma, Washington

• May 19, 2011, at Loyola University-Lakeshore Campus in Chicago, Illinois

• May 26, 2011, at College of Charleston in Charleston, South Carolina

The public hearings will be held from 9:00 a.m. to 4:00 p.m., local time. Further information on the public hearing sites, including addresses and directions, is available at http://www2.ed.gov/policy/highered/reg/hearulemaking/2011/hearings.html.

Individuals desiring to present comments at the public hearings must register by sending an e-mail to negreg.2011@ed.gov. The e-mail should include the name of the presenter along with a general timeframe during which the individual would like to speak (for example, a presenter could indicate morning or afternoon, or before 11:00 a.m. or after 3:00 p.m.). We will attempt to accommodate each speaker's preference but, if we are unable to do so, we will make the determination based on the time and date the e-mail was received. It is likely that each participant will be limited to five minutes. The Department will notify registrants indicating the specific location and time slot reserved for them. An individual may make only one presentation at the public hearings. If we receive more registrations than we are able to accommodate, the Department reserves the right to reject the registration of an entity or individual that is affiliated with an entity or individual that is already scheduled to present comments, and to select among registrants to ensure that a broad range of entities and individuals is allowed to present. We will accept walk-in registrations for any remaining time slots on a first-come first-served basis beginning at 8:30 a.m. on the day of the public hearing at the Department's on-site registration table.

Speakers may also submit written comments. In addition, for anyone who does not present comments at a public hearing, the Department will accept written comments through May 20, 2011. (See the ADDRESSES sections of this document for submission information.)

Roundtable Discussions

On the day following each public hearing, the Department intends to conduct roundtable discussions at the same location as each public hearing, from 9:00 a.m. to 1:00 p.m. local time. The Department also intends to conduct roundtable discussions from 9:00 a.m. to 1:00 p.m. local time at Tennessee State University in Nashville, Tennessee on May 12, 2011. The Department may hold additional roundtable discussions, which will be announced on the Department's Web site at: http://www2.ed.gov/policy/highered/reg/hearulemaking/2011/roundtable.html.

These roundtable discussions are intended to complement the hearings, which will have a broader focus, and inform the policy development process in the specific areas of teacher preparation, college completion, and a “First in the World” competition. For those unable to attend one of the policy roundtable discussions, we will also accept written comments and suggestions on the topics discussed at the roundtable.

The Department intends to use these roundtable discussions to inform our postsecondary education policies in three key areas—teacher preparation, college completion, and the proposed “First in the World” grant competition, proposed in the President's fiscal year (FY) 2012 budget under the Fund for the Improvement of Postsecondary Education (FIPSE). The three roundtable discussions at each of the four locations announced above will each focus on one of these areas.

The first topic will be the design and implementation plans for teacher preparation programs. We will discuss: (1) The proposed Presidential Teaching Fellows program along with the already authorized Honorable Augustus F. Hawkins Centers for Excellence program (subpart 2, part B, title II of the HEA) for which the Administration has requested funding; (2) ways in which the Department can streamline institutional reporting requirements; and (3) State identification of low-performing teacher preparation programs pursuant to sections 205 and 207 of the HEA.

A second topic will be college completion, with a focus on obtaining information about State-level reform efforts that show the most promise for increasing college completion. We will also discuss the College Completion Incentive Grants program, proposed in the President's fiscal year (FY) 2012 budget, which would encourage States to make systemic reforms in their higher education systems to increase the number of students who complete a postsecondary degree or certificate program and also reward institutions within those States that increase their completion rates.

The third topic will be possible priorities and structure for the (FIPSE) “First in the World” competition. The purpose of this discussion is to obtain information about institutional reform efforts that show the most promise for increasing college completion, expanding institutional capacity, and improving quality of student outcomes. This input will be used to inform the development of competitive preferences and invitational priorities and the structure of the FIPSE “First in the World” competition.

While the Department is inviting representatives of students, families, teachers, teacher educators, college access professionals, and college success practitioners to participate in these roundtable discussions, the roundtable discussions will also be open to the public, with opportunities to provide public comment. Individuals desiring to participate in the roundtable discussions must register by sending an email to HigherEducationRoundtable.2011@ed.gov. The email should include the name of the participant and his or her affiliation, and identify which policy roundtable discussion she or he would like to participate in, and at which location. We will attempt to accommodate each participant's preference but, if we are unable to do so, we will make the determination based on the time and date the email was received. The Department will notify each registrant by email of the specific location and roundtable discussion he or she was selected to participate in. An individual may only participate in one roundtable discussion per location. If we receive more registrations than we are able to accommodate, the Department reserves the right to reject the registration of an entity or individual that is affiliated with an entity or individual that is already scheduled to participate in the same roundtable discussion, and to select among registrants to ensure that a broad range of entities and individuals are allowed to present. We will accept walk-in participants on a first-come first-served basis beginning at 8:30 a.m. on the day of each roundtable discussion at the Department's on-site registration table.

The public hearing/roundtable sites are accessible to individuals with disabilities. Individuals needing an auxiliary aid or service to participate in the hearing or a roundtable discussion (e.g., interpreting service, assistive listening device, or materials in alternative format), should notify the contact person identified for information about hearings listed under FOR FURTHER INFORMATION CONTACT in this document in advance of the scheduled hearing date. Although we will attempt to meet any request we receive, we may not be able to make available the requested auxiliary aid or service if we do not have sufficient time to arrange it.

Schedule for Negotiations

We anticipate that any negotiated rulemaking committees established after these public hearings will begin negotiations in August or September 2011, with each committee meeting for up to three sessions of approximately three days at roughly monthly intervals. The committees will meet in the Washington, DC area. The dates and locations of these meetings will be announced in a subsequent document in the Federal Register, and will be posted on the Department's Web site at: http://www2.ed.gov/policy/highered/reg/hearulemaking/2011/hearings.html.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Program Authority: 20 U.S.C. 1022-1022h, 1098a.

Dated: April 28, 2011.
Eduardo M. Ochoa,
Assistant Secretary for Postsecondary Education.

[FR Doc. 2011-10909 Filed 5-4-11; 8:45 am]

BILLING CODE 4000-01-P